ENVIRONMENTAL PROTECTION AGENCY

[FRL-11700-01-OA]

Public Meeting of the Science Advisory Board

AGENCY: Environmental Protection Agency (EPA).

ACTION: Notice.

SUMMARY: The Environmental Protection Agency (EPA) Science Advisory Board (SAB) Staff Office is announcing a public meeting of the chartered Science Advisory Board. The purpose of the meeting is to: receive a briefing from EPA on the Agency's Scientific Integrity Policy; conduct a quality review of the draft SAB report titled: Review of the Clean Air Status and Trends Ambient Air Monitoring Network (CASTNet); discuss the draft SAB report on the proposed rule titled New Source Performance Standards: Greenhouse Gas Emissions from New, Modified, and Reconstructed Fossil Fuel-Fired Electric Generating Units; Emission Guidelines for Greenhouse Gas Emissions from Existing Fossil Fuel-Fired Electric Generating Units; and Repeal of the Affordable Clean Energy Rule (RIN 2060-AV09); and discuss recommendations received from the SAB Work Group for Review of Science Supporting EPA Decisions concerning SAB review of EPA planned regulatory actions.

DATES: Public meeting: The chartered Science Advisory Board will meet on Thursday, February 29, 2024, from 12-5 p.m. eastern time.

Comments: See the section titled “Procedures for providing public input” under SUPPLEMENTARY INFORMATION for instructions and deadlines.

ADDRESSES: The meeting will be conducted virtually. Please refer to the SAB website at https://sab.epa.gov for information on how to attend the meeting.

FOR FURTHER INFORMATION CONTACT: Any member of the public who wants further information concerning this notice may contact Dr. Thomas Armitage, Designated Federal Officer (DFO), via telephone (202) 564-2155, or email at armitage.thomas@epa.gov. General information about the SAB, as well as any updates concerning the meeting announced in this notice, can be found on the SAB website at https://sab.epa.gov.

SUPPLEMENTARY INFORMATION:

Background: The SAB was established pursuant to the Environmental Research, Development, and Demonstration Authorization Act (ERDDAA), codified at 42 U.S.C. 4365, to provide independent scientific and technical advice to the EPA Administrator on the scientific and technical basis for agency positions and regulations. The SAB is a Federal Advisory Committee chartered under the Federal Advisory Committee Act (FACA), 5 U.S. Code 10. The SAB will comply with the provisions of FACA and all appropriate SAB Staff Office procedural policies. Pursuant to FACA and EPA policy, notice is hereby given that the chartered Science Advisory Board will hold a public meeting to receive a briefing from EPA on the Agency's Scientific Integrity Policy and discuss the following topics. (1) The SAB will conduct a quality review of a draft report developed by an SAB panel. The draft report is titled: Review of the Clean Air Status and Trends Ambient Air Monitoring Network (CASTNet). The SAB quality review process ensures that draft reports developed by SAB panels, committees, or workgroups are reviewed by the Chartered SAB before being finalized and transmitted to the EPA Administrator. (2) The SAB will discuss a draft report developed by an SAB workgroup on the proposed rule titled New Source Performance Standards: Greenhouse Gas Emissions from New, Modified, and Reconstructed Fossil Fuel-Fired Electric Generating Units; Emission Guidelines for Greenhouse Gas Emissions from Existing Fossil Fuel-Fired Electric Generating Units; and Repeal of the Affordable Clean Energy Rule (RIN 2060-AV09). (3) The SAB will discuss recommendations received from the SAB Workgroup for Review of Science Supporting EPA Decisions concerning SAB review of EPA planned regulatory actions. Under the SAB's authorizing statute, the SAB “may make available to the Administrator, within the time specified by the Administrator, its advice and comments on the adequacy of the scientific and technical basis” of proposed rules. The SAB Workgroup for Review of Science Supporting EPA Decisions (SAB SSD Workgroup) is charged with identifying EPA planned actions that may warrant SAB review.

Availability of meeting materials: All meeting materials, including the agenda, will be available on the SAB web page at https://sab.epa.gov.

Procedures for providing public input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments pertaining to the committee's charge or meeting materials. Input from the public to the SAB will have the most impact if it provides specific scientific or technical information or analysis for the SAB to consider or if it relates to the clarity or accuracy of the technical information. Members of the public wishing to provide comments should follow the instruction below to submit comments.

Oral statements: In general, individuals or groups requesting an oral presentation will be limited to three minutes. Each person making an oral statement should consider providing written comments as well as their oral statement so that the points presented orally can be expanded upon in writing. Persons interested in providing oral statements should contact the DFO, in writing (preferably via email) at the contact information noted under FOR FURTHER INFORMATION CONTACT, by February 22, 2024, to be placed on the list of registered speakers.

Written statements: Written statements will be accepted throughout the advisory process; however, for timely consideration by SAB members, statements should be submitted to the DFO by February 22, 2024, for consideration at the February 29, 2024, meeting. Written statements should be supplied to the DFO at the contact information above via email. Submitters are requested to provide an unsigned version of each document because the SAB Staff Office does not publish documents with signatures on its websites. Members of the public should be aware that their personal contact information if included in any written comments, may be posted to the SAB website. Copyrighted material will not be posted without the explicit permission of the copyright holder.

Accessibility: For information on access or services for individuals with disabilities, please contact the DFO, at the contact information noted above, preferably at least ten days before the meeting, to give the EPA as much time as possible to process your request.

Thomas H. Brennan,
Director, Science Advisory Board Staff Office.

[FR Doc. 2024-02430 Filed 2-6-24; 8:45 am]

BILLING CODE 6560-50-P